DEPARTMENT OF COMMERCE

National Oceanic and Atmospheric Administration

50 CFR Part 223

[I.D. 092501A]

Availability of a Draft Environmental Assessment/Finding of No Significant Impact and Receipt of an Application for an Incidental Take Permit (1347)

AGENCY: National Marine Fisheries Service (NMFS), National Oceanic and Atmospheric Administration (NOAA), Commerce.

ACTION: Notice of availability.

SUMMARY: NMFS has received an application for an incidental take permit (Permit) from the Washington Department of Fish and Wildlife (WDFW) pursuant to the Endangered Species Act of 1973, as amended (ESA). As required by the ESA, WDFW has also prepared a conservation plan (Plan) designed to minimize and mitigate any such take of endangered or threatened species. The Permit application is for the incidental take of ESA-listed adult and juvenile salmonids associated with otherwise lawful artificial propagation programs for non-listed species in the upper Columbia River and its tributaries in the state of Washington. The duration of the proposed Permit and Plan is 5 years. The Permit application includes the proposed Plan, and three Hatchery and Genetic Management Plans (HGMPs) submitted by WDFW. NMFS also announces the availability of a draft Environmental Assessment (EA) for the Permit application. NMFS is furnishing this notification in order to allow other agencies and the public an opportunity to review and comment on these documents. All comments received will become part of the public record and will be available for review pursuant to the ESA.

DATES: Written comments from interested parties on the Permit application, Plan, HGMPs, and draft EA must be received at the appropriate address or fax number (see ADDRESSES) no later than 5 p.m. Pacific daylight time on November 15, 2001.

ADDRESSES: Written comments on the application, Plan, HGMPs, or draft EA should be sent to Tim Tynan, Sustainable Fisheries Division, F/NWO3, 510 Desmond Drive, Suite 103, Olympia, WA 98503. Comments may also be sent via fax to 360-753-9517. Comments will not be accepted if submitted via e-mail or the Internet. Requests for copies of the Permit application, Plan, HGMPs, and draft EA should be directed to the Sustainable Fisheries Division, F/NWO3, 510 Desmond Drive, Suite 103, Olympia, WA 98503. The documents are also available on the Internet at http://www.nwr.noaa.gov/. Comments received will also be available for public inspection, by appointment, during normal business hours by calling 360-753-9579.

FOR FURTHER INFORMATION CONTACT: Tim Tynan, Olympia, WA (ph: 360/753-9579, fax: 360/753-9507, e-mail: Tim.Tynan@noaa.gov).

SUPPLEMENTARY INFORMATION: Section 9 of the ESA and Federal regulations prohibit the “taking” of a species listed as endangered or threatened. The term “take” is defined under the ESA to mean harass, harm, pursue, hunt, shoot, wound, kill, trap, capture, or collect, or to attempt to engage in any such conduct. NMFS may issue permits, under limited circumstances, to take listed species incidental to, and not the purpose of, otherwise lawful activities. NMFS regulations governing permits for threatened and endangered species are promulgated at 50 CFR 222.307.

Species Covered in This Notice

The following species and evolutionarily significant units are included in the Plan, HGMPs, and Permit application:

Chinook salmon (Oncorhynchus tshawytscha): endangered, naturally produced and artificially propagated, upper Columbia River spring-run.

Steelhead (O. mykiss): endangered, naturally produced and artificially propagated Upper Columbia River (UCR).

Background

On December 15, 1999, WDFW submitted an application to NMFS for an ESA section 10 (a)(1)(B) permit for the incidental take of ESA-listed anadromous fish species associated with operation of hatchery programs producing unlisted salmon for release into the Columbia River and its tributaries from Priest Rapids Dam upstream to the Okanogan River Basin from 2001 to 2005. Incidental take would include endangered spring chinook salmon and steelhead in the UCR Evolutionarily Significant Units (ESUs). The proposed unlisted salmon hatchery programs produce sockeye, summer-run chinook, and fall-run chinook salmon of native stock to supplement local naturally spawning salmon populations. The hatchery programs function to mitigate for the loss of adult salmon resulting from the construction and operation of hydropower projects in the UCR region. In addition to augmenting the number of naturally spawning salmon, the proposed implementation of these hatchery programs will produce surplus fish for harvest in Native American ceremonial and subsistence and commercial fisheries, and non-Indian recreational and commercial fisheries, in the Columbia River Basin. These fisheries provide cultural benefits to Columbia River Basin treaty tribes and economic opportunity for local communities through the sale of fish, licences, equipment, and the conduct of other financial transactions related to the fisheries.

Conservation Plan

The Conservation Plan and the HGMPs prepared by WDFW describe measures designed to monitor, minimize, and mitigate the incidental takes of ESA-listed anadromous salmonids associated with the following unlisted salmon hatchery programs that are expected to be implemented during 2001 through 2005:

Lake Wenatchee Sockeye Salmon Supplementation Program

The program’s purpose is to mitigate for the loss of sockeye salmon attributable to the construction and operation of Rock Island Dam on the mainstem Columbia River. Lake Wenatchee sockeye salmon are collected as broodstock from the run at large at Tumwater Dam on the Wenatchee River from July 15 through early August each year. The annual broodstock collection goal is approximately 300 adults. Eggs and juvenile sockeye salmon are incubated and early reared at WDFW’s Eastbank Fish Hatchery, located on the mainstem Columbia River near Rocky Reach Dam. The fish are transferred as fed fry to net pens in Lake Wenatchee in early April. After 6 or 7 months of rearing, up to 200,000 sockeye salmon juveniles are liberated during September and October from the net pens into Lake Wenatchee.

Dryden Pond - Eastbank Hatchery Summer Chinook Salmon Program

The purpose of this artificial propagation program in the Wenatchee River Basin is to mitigate for the loss of summer chinook salmon due to hydropower mortalities at Rocky Reach and Rock Island dams. Broodstock collection facilities located at Dryden Dam and Tumwater Dam on the Wenatchee River collect up to 492 native Wenatchee River adult summer chinook between July and November each year for the program. WDFW’s Eastbank Hatchery, located on the mainstem Columbia River, is used for spawning, incubation and early rearing. Pre-smolt summer chinook salmon produced at Eastbank Hatchery are transferred to Dryden Pond on the Wenatchee River for acclimation and release. Up to 864,000 yearling summer chinook salmon are released into the Wenatchee River each year.

Carlton Pond - Eastbank Hatchery Summer Chinook Salmon Program

The purpose of this summer-run chinook salmon artificial propagation program is to mitigate for the loss of summer chinook salmon adults that would have been produced in the Methow River Basin in the absence of the Wells, Rocky Reach, and Rock Island hydroelectric projects. Summer chinook salmon used as broodstock are the progeny of natural or hatchery-origin fish originating from the Methow and Okanogan river watersheds collected in July and August at Wells Dam and at WDFW’s Wells Hatchery trap on the mainstem Columbia River. Up to 492 summer chinook salmon adults may be collected as broodstock each year. WDFW’s Eastbank Hatchery is used for spawning, incubation and early rearing. Summer-run chinook salmon juveniles produced at Eastbank Hatchery are transferred to Carlton Pond on the Methow River for acclimation and release. Up to 400,000 yearling summer chinook smolts may be released into the Methow River each year through the program.

Similkameen Pond - Eastbank Hatchery Summer Chinook Salmon Program

The purpose of the Similkameen Pond - Eastbank Hatchery program is to mitigate for the loss of summer chinook salmon adults that would have been produced in the Okanogan River Basin in the absence of Wells, Rocky Reach, and Rock Island hydroelectric projects. Summer-run chinook used in the program originate from natural or marked hatchery-origin fish collected at the Wells Dam and Wells Hatchery traps. These brood sources are representative of the summer-run population indigenous to the Okanogan River system. Up to 556 adult fish are collected in July and August each year as broodstock. WDFW’s Eastbank Hatchery is used for fish spawning, incubation and early rearing. Summer chinook juveniles produced at Eastbank Hatchery are transferred in the fall to Similkameen Pond in the upper Okanogan River watershed for acclimation and release. The fish are reared to yearling smolt size in the pond through the winter for release in the spring to acclimate the chinook to the release site. Up to 576,000 summer chinook salmon yearling smolts may be released in the spring each year.

Priest Rapids Fish Hatchery Fall Chinook Salmon Program

The goal of the Priest Rapids upriver bright chinook salmon program is to mitigate for the loss of fall-run chinook salmon adults that would have been produced in the region in the absence of the Priest Rapids Project (Priest Rapids and Wanapum dams) and John Day Dam. Up to 6,102 adult fish may be collected as volunteers to the hatchery trap for use as broodstock each year. Fish are spawned at the hatchery, and eggs and fish are incubated and reared at the hatchery site. All fish are reared for several months for release in June of each year as sub-yearlings. The annual fish release goal for the program is 6,700,000 fall chinook salmon sub-yearlings.

Eastbank Fish Hatchery Summer Chinook Salmon Program

The hatchery began operation in 1989 to mitigate for salmon smolt losses resulting from the operation of Rock Island Dam. The hatchery is used for incubation and rearing of unlisted summer chinook and sockeye salmon. Eastbank Hatchery is located on the east side of the Columbia River near Rocky Reach Dam, seven miles north of Wenatchee, Washington. The hatchery is operated with five satellite facilities, located on five different rivers in the action area: Dryden Pond on the Wenatchee River, Chiwawa Pond on the Chiwawa River, Carlton Pond on the Methow River, and Similkameen Pond on the Similkameen River. Broodstock are not collected at Eastbank Hatchery. There are no on-station releases of fish at Eastbank Hatchery into the mainstem Columbia River. Releases of fish reared at Eastbank Hatchery and transferred to other locations are described above.

Turtle Rock Fish Hatchery Summer Chinook Salmon Program

The Turtle Rock Hatchery is located adjacent to the Columbia River two miles upstream from Rocky Reach Dam at river mile 476 on the Columbia River. The hatchery is operated as a mitigation facility for fishery impacts caused by the construction and operation of Rocky Reach Dam. Summer chinook salmon broodstock are not collected at Turtle Rock Hatchery. Currently, broodstock for the program is provided annually through collection of summer chinook salmon volunteers to the Wells Hatchery trap in July and August. Eggs taken from spawners at Wells Hatchery are shipped to Turtle Rock Hatchery and for incubation then to WDFW’s Rocky Reach Hatchery for rearing. The annual hatchery production goals are 200,000 yearling summer chinook and 1,600,000 sub-yearling summer chinook salmon for release from Turtle Rock Hatchery. Yearlings are released in April and sub-yearlings are released in June of each year.

Wells Salmon Hatchery Summer Chinook Salmon Program

Wells Hatchery is located on the mainstem Columbia River just below Wells Dam. The hatchery operates as a mitigation facility for salmon fishery impacts caused by Wells Dam. Summer chinook adults collected as broodstock for the Wells Hatchery summer chinook program are trapped each year in July and August at the hatchery from summer chinook volunteers to the hatchery trap. The collective annual broodstock collection goal at the Wells Hatchery volunteer trap is 1,208 adults for the Wells and Turtle Rock programs. Progeny of spawners trapped at Wells Hatchery are incubated and reared on-station. The annual Wells Hatchery on-station release goals are 320,000 summer chinook yearlings released in April and 484,000 accelerated sub-yearlings released in June.

Incidental mortalities of ESA-listed fish associated with the WDFW unlisted salmon hatchery programs are requested at levels specified in the Permit application and in the HGMPs. WDFW is proposing to limit broodstock collection and juvenile fish production and release methods applied at the hatcheries such that the incidental impacts on ESA-listed salmonids will be minimized. Two alternatives for the WDFW hatchery programs were provided in the Plan and HGMPs, including: (1) the no action alternative; (2) and the proposed conservation plan alternative (based on implementation of the hatchery programs with a comprehensive monitoring program).

Environmental Assessment/Finding of No Significant Impact

The EA package includes a draft EA and a draft Finding of No Significant Impact which concludes that issuing the incidental take permit is not a major Federal action significantly affecting the quality of the human environment, within the meaning of section 102 (2)(C) of the National Environmental Policy Act (NEPA) of 1969, as amended. Three Federal action alternatives have been analyzed in the draft EA, including: (1) the no action alternative; (2) issue a permit with conditions; and (3) issue a permit without conditions.

This notice is provided pursuant to section 10(c) of the ESA and the NEPA regulations (40 CFR 1506.6). NMFS will evaluate the application, associated documents, and comments submitted thereon to determine whether the application meets the requirements of the NEPA regulations and section 10 (a) of the ESA. If it is determined that the requirements are met, a permit will be issued for incidental takes of ESA-listed anadromous salmonids under the jurisdiction of NMFS. The final NEPA and permit determinations will not be completed until after the end of the 30-day comment period and will fully consider all public comments received during the comment period. NMFS will publish a record of its final action in the Federal Register.

Dated: October 10, 2001.
Phil Williams,
Acting Chief, Endangered Species Division, Office of Protected Resources, National Marine Fisheries Service.

[FR Doc. 01-25980 Filed 10-15-01; 8:45 am]

BILLING CODE 3510-22-S